DEPARTMENT OF HEALTH AND HUMAN SERVICES

Agency for Healthcare Research and Quality

Agency Information Collection Activities; Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “MEPS Cancer Self Administrated Questionnaire.” In accordance with the Paperwork Reduction Act, 44 U.S.C. 3501-3521, AHRQ invites the public to comment on this proposed information collection.

DATES: Comments on this notice must be received by January 3, 2012.

ADDRESSES: Written comments should be submitted to: Doris Lefkowitz, Reports Clearance Officer, AHRQ, by email at dorislefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

MEPS Cancer SAQ

The Medical Expenditure Panel Survey (MEPS) is a nationally representative survey of the civilian noninstitutionalized population of all ages in the United States that collects comprehensive data on health care and health care expenditures from all payors (including private payors, Medicaid, the VA, and out-of-pocket) over a two-year period. The MEPS has been conducted annually since 1996. The OMB Control Number for the MEPS is 0935-0118, with an expiration date of January 31st, 2013. All of the supporting documents for the MEPS can be downloaded from http://www.reginfo.gov/public/do/PRAViewDocument?ref_nbr=200910-0935-001.

The purpose of this request is to integrate the new self-administered questionnaire (SAQ) entitled, “Experiences with Cancer,” into the MEPS. Once the SAQ is integrated it will be completed by MEPS participants identified as ever having cancer. The Cancer SAQ will be included in the MEPS in 2012; it will be subsequently removed from the MEPS in 2013.

The work is being conducted by AHRQ through its contractor, Westat, pursuant to AHRQ's statutory authority to conduct and support research on healthcare and on systems for the delivery of such care, including the use of surveys to collect data on the cost, use and quality of such care. 42 U.S.C. 299b-2; 42 U.S.C. 299a(a)(1), (2), (3), and (8).

Method of Collection

MEPS respondents identified as having cancer will be given the paper questionnaire to complete themselves. If the cancer SAQ respondent is available at the time of the MEPS interview, we ask that he/she complete the SAQ and give it to the interviewer before she leaves the household after completing the MEPS interview. If the cancer SAQ is not collected before the interviewer leaves the household (including those cases where the SAQ respondent is not available at the time of the MEPS interview), he/she will either arrange a time to come back to pick it up (if it is mutually convenient for the respondent and interviewer) or we ask that the SAQ be returned in a postage-paid envelope left at the household.

There are several benefits to administering this SAQ nationally as a supplement to the MEPS. First, the accompanying over sample of persons with cancer will improve the cost estimates for patients with this disease and will allow AHRQ to conduct analysis on the long term costs of cancer for survivors. Since the survey is about the lasting effects of cancer and cancer treatments on the lives of those who have been diagnosed with cancer, the data will also allow research directed at long-term consequences of cancer and overall medical expenses. Finally, this activity will allow AHRQ to examine the feasibility of using MEPS as a vehicle for in depth analysis of other specific conditions. The questionnaire is being funded by the National Cancer Institute (NCI) and was developed through a collaboration among the Centers for Disease Control and Prevention, NCI, the National Institutes of Health, AHRQ, the American Cancer Society, and the Lance Armstrong Foundation.

Estimated Annual Respondent Burden

Exhibit 1 shows the estimated annualized burden hours for respondents' time to participate in this research. The Cancer SAQ will be completed by 3,500 persons and is estimated to require 30 minutes to complete. The total annualized burden is estimated to be 1,750 hours.

Exhibit 2 shows the estimated annualized cost burden associated with respondents' time to participate in this research. The total cost burden is estimated to be $37,363 annually.

Exhibit 1—Estimated Annualized Burden Hours
Activity | Number of respondents | Number of responses per respondent | Hours per response | Total burden hours
MEPS Cancer SAQ | 3,500 | 1 | 30/60 | 1,750
Total | 3,500 | n/a | n/a | 1,750

Exhibit 2—Estimated Annualized Cost Burden
Activity | Number of respondents | Total burden hours | Average hourly wage rate* | Total cost burden
MEPS Cancer SAQ | 3,500 | 1,750 | $21.35 | $37,363
Total | 3,500 | 1,750 | n/a | 37,363
* Based on the mean average hourly rate for all occupations (00-0000), National Compensation Survey: Occupational Wages in the United States May 2010, “U.S. Department of Labor, Bureau of Labor Statistics”.

Estimated Annual Costs to the Federal Government

Exhibit 3 shows the estimated total cost for the Cancer SAQ. Since the SAQ will only be used once in 2012 the total and annual costs are identical. The total cost is approximately $1,050,000.

Exhibit 3—Estimated Total and Annualized Cost
Cost component | Total cost | Annualized cost
Sampling Activities | $20,000 | $20,000
Interviewer Recruitment and Training | 0 | 0
Data Collection Activities | 300,000 | 300,000
Data Processing | 600,000 | 600,000
Production of Public Use Data Files | 80,000 | 80,000
Project Management | 50,000 | 50,000
Total | 1,050,000 | 1,050,000

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ' s estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: October 27, 2011.
Carolyn M. Clancy,
Director.

[FR Doc. 2011-28402 Filed 11-1-11; 8:45 am]

BILLING CODE 4160-90-M